DEPARTMENT OF COMMERCE

Foreign-Trade Zones Board

[B-104-2013]

Foreign-Trade Zone 100—Dayton, Ohio, Authorization of Production Activity, THOR Industries, Inc. (Commercial Bus Manufacturing), Jackson Center, Ohio

On November 26, 2013, Greater Dayton Foreign-Trade Zone, Inc., grantee of FTZ 100, submitted a notification of proposed production activity to the Foreign-Trade Zones (FTZ) Board on behalf of THOR Industries, Inc., within Subzone 100D, in Jackson Center, Ohio.

The notification was processed in accordance with the regulations of the FTZ Board (15 CFR part 400), including notice in the Federal Register inviting public comment (78 FR 75331-75332, 12/11/2013). The FTZ Board has determined that no further review of the activity is warranted at this time. The production activity described in the notification is authorized, subject to the FTZ Act and the Board's regulations, including Section 400.14.

Dated: March 25, 2014.
Andrew McGilvray,
Executive Secretary.

[FR Doc. 2014-07126 Filed 3-28-14; 8:45 am]

BILLING CODE 3510-DS-P